DEPARTMENT OF TRANSPORTATION

Federal Railroad Administration

[Docket Number FRA-2017-0082]

Notice of Application for Approval of Discontinuance or Modification of a Railroad Signal System

Under part 235 of Title 49 of the Code of Federal Regulations (CFR) and 49 U.S.C. 20502(a), this document provides the public notice that by a document dated July 22, 2019, the Denver Regional Transportation District Commuter Rail (RTDC) petitioned the Federal Railroad Administration (FRA) seeking approval for amendments to FRA-2017-0082.

Applicant: Regional Transportation District Commuter Rail, Mr. Allen W. Miller, Deputy Assistant Senior Manager, Commuter Rail, 1560 Broadway, Suite 650, Denver, CO 80202.

Regional Transportation District (RTD) is the owner of the line segment and BNSF Railway (BNSF) and the National Railroad Passenger Corporation (Amtrak) are the operators. RTDC seeks to modify the Automatic Block Signal (ABS) and Traffic Control System (TCS) on the BNSF and RTDC line segment between the 41D and 43D derails, switch 29, and the 8S signal, on the East and West Yard Track segments near Denver Union Station (DUS) Interlocking, between milepost (MP) 0.00 and MP 0.49.

BNSF uses this 500-foot line segment between the 41D and 43D derails, switch 29, and the 8S signal primarily for locomotive switching moves and Amtrak operates on this line segment to move in and out of DUS Tracks #4 and #5 for passenger operations.

The current signal system design uses the 41D, East Yard Track, and 43D West Yard Track, switch indication lights to govern traffic in advance of the derails on the yard tracks and in approach to the 8S signal at DUS Interlocking. The 41D and 43D derails and switch 29 are interlocked with the 8S signal at DUS Interlocking. The violation of the 8S signal, toward DUS, is safeguarded by the 49D derail.

The application states that disconnecting the circuitry of the 41D and 43D derail and switch 29 from 8S signal at DUS Interlocking complies with 49 CFR part 236. All existing home signals are retained. The 41D and 43D derails, switch 29, and associated switch indication lights remain powered but are controlled and monitored independently from the DUS Interlocking. The movement of switch 29 is electrically tied to the 41D and 43D derails. Positioning of switch 29 is determined by the position of the corresponding derail, aligning to the derail which is in the non-derailing position and locked. Although the switch and derails are removed from the DUS Interlocking logics, a minimum of two indications from switch 29, one being switch position and the other being the locked indication, are established to provide safe routing through DUS between the platform and beyond the 41D and 43D derails in both directions.

The July 22, 2019, request states that to protect against incursion into the RTDC tracks, the 100 feet of center gauge restraining rail which was to be installed south of the 49D derail, toward DUS, will be replaced, as an additional safety measure, with a minimum of 50 feet of double guard rail. RTDC contends the safety of the operation is maintained by the 8S signal and associated 49D derail, along with the double guard rail, both part of the DUS Interlocking; as well as the independent 41D and 43D derails, switch 29 and associated switch indication lights, providing additional protection of unauthorized yard movements. The reasons for the proposed changes are to improve reliability and safety, expedite train movements, and warrant compliance with 49 CFR part 236 for present train operations.

A copy of the petition, as well as any written communications concerning the petition, is available for review online at www.regulations.gov and in person at the U. S. Department of Transportation's Docket Operations Facility, 1200 New Jersey Avenue SE, W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation, 1200 New Jersey Avenue SE, W12-140, Washington, DC 20590.

• Hand Delivery: 1200 New Jersey Avenue SE, Room W12-140, Washington, DC 20590, between 9 a.m. and 5 p.m., Monday through Friday, except Federal Holidays.

Communications received by September 16, 2019 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at www.dot.gov/privacy. See also http://www.regulations.gov/#!privacyNotice for the privacy notice of regulations.gov.

Issued in Washington, DC.
John Karl Alexy,
Associate Administrator for Safety Chief Safety Officer.

[FR Doc. 2019-16377 Filed 7-31-19; 8:45 am]

BILLING CODE 4910-06-P